DEPARTMENT OF HEALTH AND HUMAN SERVICES

Food and Drug Administration

[Docket No. 02F-0327]

ADM Alliance Nutrition, Inc.; Filing of Food Additive Petition (Animal Use)- Feed-Grade Biuret

AGENCY: Food and Drug Administration, HHS.

ACTION: Notice.

SUMMARY: The Food and Drug Administration (FDA) is announcing that ADM Alliance Nutrition, Inc. has filed a petition proposing that the food additive regulations be amended to provide for the safe use of feed-grade biuret in lactating dairy cattle feed.

DATES: Submit written or electronic comments on the petitioner's environmental assessment by November 11, 2002.

ADDRESSES: Submit written comments to the Dockets Management Branch (HFA-305), Food and Drug Administration, 5630 Fishers Lane, rm. 1061, Rockville, MD 20852. Submit electronic comments to http://www.fda.gov/dockets/ecomments.

FOR FURTHER INFORMATION CONTACT: Sharon Benz, Center for Veterinary Medicine (HFV-228), Food and Drug Administration, 7500 Standish Pl., Rockville, MD 20855, 301-827-6656.

SUPPLEMENTARY INFORMATION: Under the Federal Food, Drug, and Cosmetic Act (sec. 409(b)(5) (21 U.S.C. 348(b)(5))), notice is given that a food additive petition (FAP 2248) has been filed by ADM Alliance Nutrition, Inc., 1000 North 30th St., P.O. Box C1., Quincy, IL 62305-7100. The petition proposes to amend the food additive regulations in Part 573 Food Additives Permitted in Feed and Drinking Water of Animals (21 CFR part 573) to provide for the safe use of feed-grade biuret in lactating dairy cattle feed.

The potential environmental impact of this action is being reviewed. To encourage public participation consistent with regulations issued under the National Environmental Policy Act (40 CFR 1501.4(b)), the agency is placing the environmental information submitted with the petition that is the subject of this notice on public display at the Dockets Management Branch (see ADDRESSES) for public review and comment.

Interested persons may submit to the Dockets Management Branch (see ADDRESSES) written or electronic comments. Two copies of any comments are to be submitted, except individuals may submit one copy. Comments are to be identified with the docket number found in brackets in the heading of this document. Received comments may be seen in the Dockets Management Branch (see ADDRESSES) between 9 a.m. and 4 p.m., Monday through Friday. FDA will also place on public display any amendments to, or comments on, the petitioner's environmental assessment without further announcement in the Federal Register. If, based on its review, the agency finds that an environmental impact statement is not required and this petition results in a regulation, the notice of availability of the agency's finding of no significant impact and the evidence supporting that finding will be published with the regulation in the Federal Register in accordance with 21 CFR 25.40(c).

Dated: August 5, 2002.
Linda Tollefson,
Deputy Director, Center for Veterinary Medicine.

[FR Doc. 02-21698 Filed 8-27-02; 8:45 am]

BILLING CODE 4160-01-S